NATIONAL AERONAUTICS AND SPACE ADMINISTRATION

[Notice: (07-031)]

Notice of Centennial Challenges Lunar Lander Challenge

AGENCY: National Aeronautics and Space Administration (NASA).

ACTION: Notice.

SUMMARY: This notice is issued in accordance with 42 U.S.C. 2451 (314) (d).

The Lunar Lander Challenge is now scheduled and teams that wish to compete may now register. The NASA Centennial Challenges Program is a program of prize contests to stimulate innovation and competition in space exploration and ongoing NASA mission areas. The Lunar Lander Challenge is a prize contest designed to accelerate technology developments supporting the commercial creation of a vehicle capable of ferrying cargo or humans back and forth between lunar orbit and the lunar surface.

The Lunar Lander Challenge is being administered for NASA by the X PRIZE Foundation. Their Web site is: http://www.xprize.org. The Centennial Challenges Web site is http://www.centennialchallenges.nasa.gov.

DATES: The Lunar Lander Challenge was first held at the X PRIZE Cup events starting in October 2006 and will be continued on an annual basis until all the purse money has been awarded, or until October 2010, whichever comes first. The first Lunar Lander Challenge competition was held on October 20-21, 2006.

ADDRESSES: The Lunar Lander Challenge will be held at the X PRIZE Cup at the Holloman Air Force Base, Alamogordo, NM 88330, on October 26-28, 2007. Questions and comments regarding the NASA Centennial Challenges Program should be addressed to Kenneth Davidian, Program Manager, Suite 2S24, Centennial Challenges Program, Innovative Partnerships Program Office, NASA, 20546-0001.

FOR FURTHER INFORMATION CONTACT: Requests for additional information regarding the NASA Centennial Challenges Program should be directed to Kenneth Davidian, Program Manager, Suite 2S24, Centennial Challenges Program, Innovative Partnerships Program Office, NASA, 20546-0001, (202) 358-1160, kdavidian@nasa.gov.

To register for and get additional information regarding the Lunar Lander Challenge, contact the X PRIZE Foundation, William Pomerantz, (301) 395-5283, Will@xprize.org.

SUPPLEMENTARY INFORMATION:

I. Summary

The purpose of the Lunar Lander Challenge is to accelerate technology developments supporting the commercial creation of a vehicle capable of ferrying cargo or humans back and forth between lunar orbit and the lunar surface. Such a vehicle would have direct application to NASA's space exploration goals as well as the personal spaceflight industry. Additionally, the prize will help industry build new vehicles and develop the operational capacity to operate quick turnaround vertical take-off, vertical landing vehicles, which will be of significant use to many facets of the commercial launch procurement market.

II. Challenge Basis and Prize Amount

To win the $2,000,000 purse, a rocket-propelled vehicle with an assigned payload must take-off vertically, climb to a defined altitude, fly for a pre-determined amount of time, then land vertically on a target that is a fixed distance from the take-off point. After remaining at this location for a period of time, the vehicle must take-off, fly for the same amount of time, and land again on its original launch pad.

III. Eligibility

The Centennial Challenges Program has established the following language, including definitions, governing eligibility. CHALLENGE is the Lunar Lander Challenge. TEAM is defined as an individual, organization or corporation, or a group of individuals, organizations or corporations that register to participate in the CHALLENGE. TEAM is comprised of a TEAM LEADER and TEAM MEMBERs. For the sake of clarity, PARTICIPANT is a TEAM.

TEAM LEADER is defined as a single individual, organization, or corporation, which is the sole agent representing a TEAM regarding its participation in the CHALLENGE. TEAM LEADERs who are individuals must be U.S. citizens. TEAM LEADERs that are organizations or corporations must be incorporated in the U.S. and majority-owned and controlled by U.S. citizens. Corporate or other organizational TEAM LEADERs must appoint an individual who is an officer of the corporation or organization to represent the TEAM LEADER.

TEAM MEMBERs are defined as the participants on a TEAM that are not the TEAM LEADER. If a TEAM consists of a single individual, then in this case the TEAM MEMBER is also the TEAM LEADER. Individuals and corporate entities that are other than U.S. citizens or entities may be TEAM MEMBERs, subject to written request to and approval by XPF, and provided that the TEAM and all TEAM MEMBERs comply with all applicable laws, rules and regulations, including, without limitation, the International Traffic in Arms Regulations and the Export Administration Act.

PARTICIPANTs are defined as TEAM, TEAM LEADER, and/or TEAM MEMBERs. Each TEAM MEMBER will apply to register for the CHALLENGE through TEAM LEADER and must receive written notification of official acceptance by XPF to be considered eligible.

PARTICIPANT's TEAM LEADER and each of its TEAM MEMBERs must execute an “Adoption of Agreement”, in the form attached hereto as Exhibit B, committing to all terms of this AGREEMENT and a “Liability Waiver”, in the form attached hereto as Exhibit C. By signing below, TEAM LEADER of PARTICIPANT represents that all of PARTICIPANT's TEAM MEMBERs have executed the Adoption of Agreement; no one may become a TEAM MEMBER or otherwise participate in the CHALLENGE until such time as they have signed an Adoption of Agreement. XPF may disqualify any TEAM that has any person acting as a TEAM MEMBER, or otherwise participating in the CHALLENGE, who has not signed an Adoption of Agreement. PARTICIPANT's TEAM LEADER will provide XPF with a copy of the “Adoption of Agreement” signed by each of PARTICIPANT's TEAM MEMBERs.

To be eligible to win a prize, in the case of a private entity, shall be incorporated in and maintain a primary place of business in the United States, and in the case of an individual, whether participating singly or in a group, shall be a citizen or permanent resident of the United States.

Any U.S. government organization or organization principally or substantially funded by the Federal Government, including Federally Funded Research and Development Centers, government-owned, contractor operated (GOCO) facilities, and University Affiliated Research Centers, are ineligible to be TEAM LEADERs or TEAM MEMBERs.

U.S. government employees, and employees of Federally Funded Research and Development Centers, government-owned, contractor operated facilities, and University Affiliated Research Centers, may not participate in the CHALLENGE.

IV. Rules

The rules for the Lunar Lander Challenge can be found at: http://www.xprize.org.

Dated: April 9, 2007.
Douglas A. Comstock,
Director, Innovative Partnerships Program Office.

[FR Doc. E7-7214 Filed 4-16-07; 8:45 am]

BILLING CODE 7510-13-P